DEPARTMENT OF DEFENSE

Department of the Army

Change to the Freight Carrier Registration Program (FCRP) Open Season

AGENCY: Department of the Army, DOD.

ACTION: Notice.

SUMMARY: The Military Surface Deployment and Distribution Command (SDDC) will officially have an Open Season, effective 09 Jan 17 thru 28 Feb 17 (Applications will not be accepted prior to 9 Jan 17). This will affect domestic motor Transportation Service Providers (TSPs) only. TSPs must be registered in the Federal Motor Carrier Safety Administration (FMSCA) and have valid Department of Transportation (DOT) authority for three (3) consecutive years (without a break) prior to the 09 Jan 17. New TSPs will indicate their small business status via the Freight Carrier Registration Program (FCRP) during registration. Registration for other modes will continue to be accepted (barge, ocean, pipeline, and international carriers).

ADDRESSES: Submit comments to Military Surface Deployment and Distribution Command, ATTN: AMSSD-OPM, 1 Soldier Way, Scott AFB, IL 62225-5006. Request for additional information may be sent by email to: usarmy.scott.sddc.mbx.carrier-registrations@mail.mil.

FOR FURTHER INFORMATION CONTACT: FCRP Team, (618) 220-6470.

SUPPLEMENTARY INFORMATION:

References: Military Freight Traffic Unified Rules Publication-1 (MFTURP-1).

Miscellaneous: This announcement can be accessed via the SDDC Web site at: http://www.sddc.army.mil/.

Daniel J. Bradley,
Deputy Chief, Domestic Movement Support Division.

[FR Doc. 2016-26672 Filed 11-3-16; 8:45 am]

BILLING CODE 5001-03-P